DEPARTMENT OF COMMERCE

Technology Administration

Proposed Information Collection; Comment Request; Government-owned Inventions License Application and Utilization Report

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before July 22, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instruments and instructions should be directed to John Raubitschek, Patent Counsel, HCHB, Room 4835, 14th and Constitution Avenue, NW., Washington, DC 20230, (202) 482-8010; or via e-mail to JRaubits@doc.gov.

SUPPLEMENTARY INFORMATION:

I. Abstract

In order for a person to obtain a license in a Government-owned invention, certain information is required. As required by 35 U.S.C. 209(f) and 37 CFR 404.5(a)(1), a plan for development or marketing the invention must be submitted to the Federal agency. Additional information is required by 37 CFR 404.8 relating to the potential licensee and its particular development and marketing plan. The plan is used to determine if a license should be granted to the applicant and on what terms. Also, 35 U.S.C. 209(d)(2) and 37 CFR 404.5(b)(6) requires that any licensee report periodically on its utilization efforts of the licensed invention. This information indicates if the licensee is complying with its development and marketing plan and whether the license should be terminated or modified by the agency under 35 U.S.C. 209(d)(3). The development and marketing plan of the application is protected from FOIA under 35 U.S.C 209(f). If an application for a license has been denied, it may be appealed under 37 CFR 404.11(a). The utilization report is usually required by the license to be submitted annually until practical application has been achieved. The report is protected from FOIA under 35 U.S.C. 209(d)(2).

II. Method of Collection

The application for license is usually submitted in writing with attachments. However, it may be transmitted by email or facsimile.

III. Data

OMB Number: 0692-0006.

Form Number: None.

Type of Review: Regular submission.

Affected Public: Individuals or households; business or other for-profit organizations; not-for-profit institutions.

Estimated Number of Respondents: 4,600.

Estimated Time Per Response: 2 hours for an application; 1 hour for utilization report.

Estimated Total Annual Burden Hours: 5,200.

Estimated Total Annual Cost to Public: $52,000.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: May 17, 2005.
Gwellnar Banks,
Management Analyst, Office of the Chief Information Officer.

[FR Doc. 05-10180 Filed 5-20-05; 8:45 am]

BILLING CODE 3510-18-P